DEPARTMENT OF COMMERCE

National Oceanic and Atmospheric Administration

Agency Information Collection Activities; Submission to the Office of Management and Budget (OMB) for Review and Approval; Comment Request; West Coast Fisheries Participation Survey

AGENCY: National Oceanic and Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 1, 2022.

ADDRESSES: Interested persons are invited to submit written comments to Adrienne Thomas, NOAA PRA Officer, at NOAA.PRA@noaa.gov. Please reference OMB Control Number 0648-0749 in the subject line of your comments. Do not submit Confidential Business Information or otherwise sensitive or protected information.

FOR FURTHER INFORMATION CONTACT: Requests for additional information or copies of the information collection instrument and instructions should be directed to Karma Norman, Social Scientist, Northwest Fisheries Science Center, 2725 Montlake Blvd. East, Seattle, WA 98112-2097, Phone: (206) 302-2418, email: karma.norman@noaa.gov.

SUPPLEMENTARY INFORMATION:

I. Abstract

This is a request for a revision and extension of a currently approved information collection, approved under the authority and goals of the Magnuson-Stevens Fishery Conservation and Management Act.

Fishing livelihoods are both centrally dependent on marine ecosystems and part of the set of forces acting on other components of these ecosystems, including the ecosystem's resident fish and marine species. Alongside social factors like economics and management actions, biophysical dynamics within the ecosystems, including fisheries population fluctuations, shape fishing livelihoods. However, the decisions fishermen make regarding which fisheries to access and when to access them are not fully understood, particularly within the holistic food web frameworks offered up by ecosystem-based approaches to research and management. Moreover, a full understanding and predictive capacity for these movements of fishermen across fisheries in the context of ecological and social variability presents a significant gap in management-oriented knowledge. Managing fisheries in a way that enhances their social and economic value, mitigates risks to ecosystems and livelihoods, and facilitates sustainable adaptation, requires this fundamental knowledge.

For this reason, the Northwest Fisheries Science Center (NWFSC) seeks to conduct fisheries participation analyses which involve repeated follow-up surveys of United States (U.S.) West Coast commercial fishing participants. A U.S. mail survey will be conducted, replicating the survey administered during 2017 and 2020, with slight changes in questions about direct marketing of catch and community infrastructure. The survey will be voluntary, and contacted individuals may decline to participate. Respondents will be asked to answer questions about their motivations for fishing and other factors that affect participation in the suite of West Coast commercial fisheries. Fishing employment information will be collected so that responses can be organized based on a respondent typology. This survey is essential because data on smaller scale fishing practices, values, participation decisions and beliefs about fishing livelihoods are sparse; yet, they are critical to the development of usable fishery ecosystem models that account for non-pecuniary benefits of fishing, as well as the ways in which fishing practices shape individual and community well-being.

II. Method of Collection

Respondents will be contacted via mail for administration of the survey.

III. Data

OMB Control Number: 0648-0749.

Form Number(s): None.

Type of Review: Regular submission (revision and extension of a currently approved information collection).

Affected Public: Individuals or households.

Estimated Number of Respondents: 3,000.

Estimated Time per Response: 20 minutes.

Estimated Total Annual Burden Hours: 1,000.

Estimated Total Annual Cost to Public: $0 in recordkeeping/reporting costs.

Respondent's Obligation: Voluntary.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-19080 Filed 9-1-22; 8:45 am]

BILLING CODE 3510-22-P